FEDERAL COMMUNICATIONS COMMISSION

47 CFR Part 87

[WT Docket No. 10-61; FCC 11-25]

Aviation Service Regulations

AGENCY: Federal Communications Commission.

ACTION: Proposed rule.

SUMMARY: This document considers a petition for rulemaking requesting comment on a petition for rulemaking filed by OCAS, Inc. (OCAS) regarding audio visual warning systems (AVWS). OCAS, Inc. installs such technology under the trademark OCAS ®. AVWS are integrated air hazard notification systems that utilize radar frequencies and VHF voice frequencies to activate obstruction lighting and transmit audible warnings to aircraft on a potential collision course with obstacles such as power lines, wind turbines, bridges and towers. OCAS requests that we amend part 87 of the Commission's rules to permit AVWS stations to operate radar units, and to transmit audible warnings to pilots. We seek comment on operational, licensing, eligibility and equipment certification issues regarding AVWS stations and technology.

DATES: Submit comments on or before May 31, 2011 and reply comments are due June 28, 2011.

ADDRESSES: You may submit comments, identified by WT Docket No. 10-61; FCC 11-25, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Tim Maguire, Mobility Division, Wireless Telecommunications Bureau, (202) 418-2155.

SUPPLEMENTARY INFORMATION: This is a summary of the Commission's Further Notice of Proposed Rulemaking (“FNPRM”) in WT Docket No. 10-61, FCC 11-25, adopted February 22, 2011, and released March 4, 2011. The full text of this document is available for inspection and copying during normal business hours in the FCC Reference Center, 445 12th Street, SW., Washington, DC 20554. The complete text may be purchased from the Commission's copy contractor, Best Copy and Printing, Inc., 445 12th Street, SW., Room Cy-B402, Washington, DC 20554. The full text may also be downloaded at: www.fcc.gov. Alternative formats are available to persons with disabilities by sending an e-mail to fcc504@fcc.gov or by calling the Consumer & Governmental Affairs Bureau at 202-418-0530 (voice), 202-418-0432 (tty).

I. Procedural Matters

A. Ex Parte Rules-Permit-but-Disclose Proceeding

1. This is a permit-but-disclose notice and comment rulemaking proceeding. Ex parte presentations are permitted, except during the Sunshine Agenda period, provided they are disclosed as provided in the Commission's Rules.

B. Comment Dates

2. Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

C. Paperwork Reduction Act

3. This FNPRM does not contain any proposed information collection(s) subject to the Paperwork Reduction Act of 1995, Public Law 104-13. In addition, it does not contain any new or modified “information collection burden for small business concerns with fewer than 25 employees,” pursuant to the Small Business Paperwork Relief Act of 2002, Public Law 107-198, see 44 U.S.C. 3506(c)(4).

II. Initial Regulatory Flexibility Analysis

4. As required by the Regulatory Flexibility Act (RFA), the Commission has prepared this present Initial Regulatory Flexibility Analysis (IRFA) of the possible significant economic impact on small entities by the policies and rules proposed and set forth in Appendix B. We requent written public comments on this IRFA which must be filed in accordance with the same filing deadlines as the comments on the rest of the FNPRM. The Commission shall send a copy of this FNPRM, including the IRFA, to the Chief Counsel for Advocacy of the Small Business Administration. In addition, a copy of this FNPRM and IRFA (or summaries thereof) will also be published in the Federal Register.

III. Ordering Clauses

5. Pursuant to §§ 4(i), 4(j), and 303(r) of the Communications Act of 1934, as amended, and 47 U.S.C. 154(i), 154(j), and 303(r), notice is hereby given of the proposed regulatory changes described in the FNPRM, and comment is sought on the proposed regulatory changes as set forth below.

6. The Commission's Consumer and Governmental Affairs Bureau, Reference Information Center, shall send a copy of this FNPRM, including the Initial Regulatory Flexibility Analysis, to the Chief Counsel for Advocacy of the Small Business Administration.

List of Subjects in 47 CFR Part 87

Air transportation, Communications equipment, Radio.

Federal Communications Commission.
Marlene H. Dortch,
Secretary.

Proposed Rule Changes

For the reasons discussed in the preamble, the Federal Communications Commission proposes to amend 47 CFR part 87 as follows:

PART 87—AVIATION SERVICES

1. The authority citation for part 87 continues to read as follows:

Authority: 47 U.S.C. 154, 303 and 307(e), unless otherwise noted.

2. Section 87.171 is amended by revising the section heading and by adding “AVW—Audio visual warning systems” under the revised section heading to read as follows:

§ 87.171 Class of station symbols.

* * * * *

AVW—Audio visual warning systems

* * * * *

3. Section 87.173 is amended by revising the entries for “122.700 MHz,” “122.725 MHz,” “122.750 MHz,” “122.800 MHz,” “122.850 MHz,” “122.900 MHz,” “122.950 MHz,” “122.975 MHz,” “123.000 MHz,” “123.025 MHz,” “123.050 MHz,” “123.075 MHz,” “123.300 MHz,” “123.500 MHz,” in the table in paragraph (b) to read as follows:

§ 87.173 Frequencies.

* * * * *

(b) Frequency table:

Frequency or frequency band | Subpart | Class of station | Remarks
* * * * * * *
122.700 MHz | G, L, Q | MA, FAU, MOU, AVW | Unicom at airports with no control tower; Aeronautical utility stations.
122.725 MHz | G, L, Q | MA, CAU, MOU, AVW | Unicom at airports with no control tower; Aeronautical utility stations.
122.750 MHz | F, Q | MA2, AV | Private fixed wing aircraft air-to-air communications.
* * * * * * *
122.800 MHz | G, L, Q | MA, FAU, MOU, AVW | Unicom at airports with no control tower; Aeronautical utility stations.
* * * * * * *
122.850 MHz | H, K, Q | MA, FAM, FAS, AVW |
* * * * * * *
122.900 MHz | F, H, L, M, Q | MA, FAR, FAM, MOU, AVW |
* * * * * * *
122.950 MHz | G, L, Q | MA, FAU, MOU, AVW | Unicom at airports with control tower; Aeronautical utility stations.
122.975 MHz | G, L, Q | MA, FAU, MOU, AVW | Unicom at airports with no control tower; Aeronautical utility stations.
123.000 MHz | G, L, Q | MA, FAU, MOU, AVW | Unicom at airports with no control tower; Aeronautical utility stations.
123.025 MHz | F, Q | MA2, AVW | Helicopter air-to-air communications; Air traffic control operations.
123.050 MHz | G, L, Q | MA, FAU, MOU, AVW | Unicom at airports with no control tower; Aeronautical utility stations.
123.075 MHz | G, L, Q | MA, FAU, MOU, AVW | Unicom at airports with no control tower; Aeronautical utility stations.
* * * * * * *
123.300 MHz | K, Q | MA, FAS, AVW |
* * * * * * *
123.500 MHz | K, Q | MA, FAS, AVW |
* * * * * * *

4. Section 87.483 is added under Subpart Q to read as follows:

§ 87.483 Audio visual warning systems.

An audio visual warning system (AVWS) is a radar-based obstacle avoidance system. AVWS activates obstruction lighting and transmits VHF audible warnings to alert pilots of potential collisions with land-based obstructions. The continuously operating radar calculates the location, direction and groundspeed of nearby aircraft that enter one of two warning zones reasonably established by the licensee. As aircraft enter the first warning zone, the AVWS activates obstruction lighting. If the aircraft continues toward the obstacle and enters the second warning zone, the VHF radio transmits an audible warning describing the obstacle.

(a) Radio determination (radar) frequencies. Frequencies authorized under § 87.475(b)(7) of this part are available for use by an AVWS. The frequency coordination requirements in § 87.475(a) of this part apply.

(b) VHF audible warning frequencies. Frequencies authorized under § 87.187(j), § 87.217(a), § 87.241(b) and § 87.323(b) (excluding 121.950 MHz) of this part are available for use by an AVWS. Multiple frequencies may be authorized for an individual station, depending on need and the use of frequencies assigned in the vicinity of a proposed AVWS facility. Use of these frequencies is subject to the following limitations:

(1) The output power shall not exceed−3 dBm watts for each frequency authorized.

(2) The antenna used in transmitting the audible warnings must be omni directional with a maximum gain equal to or lower than a half-wave centerfed dipole above 30 degree elevation, and a maximum gain of +5 dBi from horizontal up to 30 degrees elevation.

(3) The audible warning shall not exceed two seconds in duration. No more than six audible warnings may be transmitted in a single warning cycle, which shall not exceed 12 seconds in duration. An interval of at lest twenty seconds must occur between transmit cycles.

* * * * *

[FR Doc. 2011-7382 Filed 3-29-11; 8:45 am]

BILLING CODE 6712-01-P